DEPARTMENT OF TRANSPORTATION

Federal Aviation Administration

[Summary Notice No. 2017-82]

Petition for Exemption; Summary of Petition Received; Auburn University

AGENCY: Federal Aviation Administration (FAA), DOT.

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition. The FAA is republishing this notice to include pertinent information not contained in the previous summary posted to the Federal Docket on September 27, 2017, to clarify that the petitioner specifically requests to utilize an FAA-approved Precision Flight Controls model DCX MAX Advanced Aviation Training Device (AATD) for fifty (50) percent of the training requirements described in Part 141 Appendix G, for the Flight Instructor Instrument certification. The FAA letter of authorization for this trainer currently allows for (5) percent of the training requirements.

DATES: Comments on this petition must identify the petition docket number and must be received on or before November 17, 2017.

ADDRESSES: Send comments identified by docket number FAA-2017-0860 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Clarence Garden (202) 267-7489, Office of Rulemaking, Federal Aviation Administration, 800 Independence Avenue SW., Washington, DC 20591.

This notice is published pursuant to 14 CFR 11.85.

Issued in Washington, DC.
Lirio Liu,
Director, Office of Rulemaking.

Petition for Exemption

Docket No.: FAA-2017-0860.

Petitioner: Auburn University.

Section(s) of 14 CFR Affected: 141, Appendix G 4. (4).

Description of Relief Sought: Auburn University seeks exemption from 14 CFR part 141, Appendix G to Part 141, Flight Instructor Instrument (Airplane) Certification Course, 4. (4). Auburn University seeks an exemption to allow an increase in the Flight Simulation Training Device (FSTD) allowance to fifty (50) percent of the 15.0 hours required from five (5) percent currently allowed. More specifically, Auburn University requests to utilize an FAA-approved Precision Flight Controls model DCX MAX Advanced Aviation Training Device (AATD) for fifty (50) percent of the training requirements described in Part 141 Appendix G, for the Flight Instructor Instrument certification. The FAA letter of authorization for this trainer currently allows for (5) percent of the training requirements.

[FR Doc. 2017-24165 Filed 11-6-17; 8:45 am]

BILLING CODE 4910-13-P